DEPARTMENT OF ENERGY

Federal Energy Regulatory Commission

[Docket No. CP02-407-000]

Gulf South Pipeline Company, LP; Notice of Application

July 25, 2002.

Take notice that on July 16, 2002, Gulf South Pipeline Company, LP (Gulf South), 20 East Greenway Plaza, Houston, Texas, 77046, filed an application for a certificate of public convenience and necessity and related authorizations pursuant to Section 7(c) of the Natural Gas Act (NGA) and Part 157 of the Commission's Rules and Regulations thereunder. Gulf South requests authorization to increase the maximum operating pressure in the Mobile Bay Lateral, located in Mobile County, Alabama. Copies of this application are on file with the Commission and are available for public inspection. This filing may also be viewed on the web at http://www.ferc.gov using the “RIMS” link, select “Docket #” and follow the instructions (please call (202) 208-2222 for assistance).

Any questions regarding Gulf South's application should be directed to J. Kyle Stevens, Esq., Director of Certificates, Gulf South Pipeline Company, LP, 20 East Greenway Plaza, Houston, Texas, 77046 at (713) 544-7309 or by fax (713) 544-4818 or Michael E. McMahon, Esq., Gulf South Pipeline Company, LP, 20 East Greenway Plaza, Houston, Texas, 77046 at (713) 544-4796 or by fax (713) 544-7336 or J. Curtis Moffat, Esq., Van Ness Feldman, P.C., 1050 Thomas Jefferson Street, Washington, DC, 20007 at (202) 298-1885 or by fax (202) 338-2416.

Gulf South requests authorization to increase the maximum operating pressure from 892 to 976 psig in the 30-in Mobile Bay Lateral, beginning at the Tailgate of ExxonMobil Company's Mary Anne processing plant and extending north to Gulf South's Lirette-Mobile pipeline. Gulf South states that this increase in operating pressure would result in an increase to the capacity of this pipeline by 236 MMcf/day without the expenditure of capital or the disruption of the environment as there is no construction. Gulf Stream also states that this increase in pressure will give them added flexibility while allowing them to meet the needs of current and new customers without the cost of constructing new facilities.

There are two ways to become involved in the Commission's review of this project. First, any person wishing to obtain legal status by becoming a party to the proceedings for this project should, on or before August 15, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-19304 Filed 7-30-02; 8:45 am]

BILLING CODE 6717-01-P